DEPARTMENT OF HEALTH AND HUMAN SERVICES

Centers for Medicare & Medicaid Services

42 CFR Chapter IV

[CMS-6012-N5]

RIN 0938-AM40

Medicare Program; Negotiated Rulemaking Committee on Special Payment Provisions and Requirements for Prosthetics and Certain Custom-Fabricated Orthotics; Meeting Announcement

AGENCY: Centers for Medicare & Medicaid Services (CMS), HHS.

ACTION: Notice of meetings.

SUMMARY: In accordance with section 10(a) of the Federal Advisory Committee Act, this notice announces additional public meetings of the Negotiated Rulemaking Committee on Special Payment Provisions and Requirements for Prosthetics and Certain Custom-Fabricated Orthotics. The Committee was mandated by section 427 of the Medicare, Medicaid, and SCHIP Benefits Improvement and Protection Act of 2000 (BIPA).

DATES: The next two negotiated rulemaking committee meetings will be held May 19 and 20, 2003 and June 2 and 3, 2003. On May 19 and June 2, the negotiated rulemaking committee will meet from 9 a.m. to 5 p.m. On May 20 and June 3, the negotiated rulemaking committee will meet from 8 a.m. to 4 p.m.

These meetings are open to the public, and subsequent meetings will be announced in the Federal Register.

ADDRESSES: The Committee meetings will be held at the Hilton Pikesville at 1726 Reisterstown Road, Baltimore, MD 21208 (Telephone 410-653-1100). Any subsequent meetings will be held at locations to be announced.

FOR FURTHER INFORMATION CONTACT: Theresa Linkowich, (410) 786-9249 (General inquiries concerning prosthetics and custom-fabricated orthotics), Centers for Medicare & Medicaid Services (CMS), 7500 Security Blvd, Baltimore MD 21244; or Lynn Sylvester, 202-606-9140, Federal Mediation and Conciliation Services, 2100 K Street, NW., Washington, DC 20427; or Ira Lobel, 518-431-0130, Federal Mediation and Conciliation Services, 1 Clinton Square, Room 952, Albany, NY 12207.

SUPPLEMENTARY INFORMATION: We published a notice in the Federal Register on July 26, 2002 (FR pages 48839-48840) announcing the establishment of the negotiated rulemaking committee to advise us on developing a proposed rule that would establish special payment provisions and requirements for suppliers of prosthetics and certain custom-fabricated orthotics under the Medicare program. The notice also announced dates for the Committee's first two meetings that were held on October 1-3, 2002 and October 29-31, 2002. On November 22, 2002 (FR page 70358), a notice of meetings was published in the Federal Register announcing the third meeting that was held January 6 and 7, 2003, and the fourth meeting that was held February 10 and 11, 2003. On January 24, 2003, (FR Page 3482) a notice of meetings was published in the Federal Register announcing the fifth meeting that was held March 10 and 11, 2003 and the sixth meeting held April 7 and 8, 2003.

Through face-to-face negotiations, these meetings will help the Committee to reach consensus on the substance of the proposed rule. If consensus is reached, the Committee will transmit to us a report containing required information for developing a proposed rule and we will use the report as the basis for the proposed rule. The Committee is responsible for identifying the key issues, gauging their importance, analyzing the information necessary to resolve the issues, arriving at a consensus, and recommending the text and content of the proposed regulation. Detailed information is available on the CMS Internet Home Page: http://cms.hhs.gov/faca/prosthetic/ or by calling the Federal Advisory Committee Hotline at (410) 786-9379.

The Agendas for the May 19 and 20 meeting and the June 2 and 3 will cover the following:

1. Review of the April 7 and 8 minutes (May 19 and 20) and review of the May 19 and 20 minutes (June 2 and 3).

2. Continuing discussion of statutory terms to be further defined by regulation.

3. Continuing discussion on L codes.

4. Continuing discussion on qualifications as defined in the statute.

5. Presentation by Physical Therapists and Occupational Therapists on delivery of care.

6. Public comments.

Public Participation

All interested parties are invited to attend these public meetings, but attendance is limited to the space available. No advance registration is required. Seating will be available on a first-come first'served basis. Individuals requiring sign language interpretation for the hearing impaired or other special accommodations should contact Theresa Linkowich, tlinkowich@cms.hhs.gov or call (410) 786-9249 at least 10 days before the meeting. The Committee has the authority to decide to what extent oral presentations by members of the public may be permitted at the meeting. Oral presentations will be limited to statements of fact and views, and shall not include any questioning of the Committee members or other participants unless the facilitators have specifically approved these questions. The number of oral presentations may be limited by the time available.

Interested parties can file statements with the Committee. Mail written statements to the following address: Federal Mediation and Conciliation Services, 2100 K Street, NW., Washington, DC 20427, Attention: Lynn Sylvester, or call Lynn Sylvester at (202) 606-9140.

Additional Meetings

Meetings will be held as necessary. We will publish notices of future meetings in the Federal Register. All future meetings will be open to the public without advance registration.

Authority: Federal Advisory Committee Act (5 U.S.C. App. 2)

(Catalog of Federal Domestic Assistance Program No. 93.774, Medicare—Supplementary Medical Insurance Program)
Dated: March 21, 2003.
Thomas A. Scully,
Administrator, Centers for Medicare & Medicaid Services.

[FR Doc. 03-7494 Filed 3-27-03; 8:45 am]

BILLING CODE 4120-01-P